DEPARTMENT OF VETERANS AFFAIRS

[OMB Control No. 2900-0209]

Proposed Information Collection (Application for Work-Study Allowance) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of currently approved collection, and allow 60 days for public comment in response to the notice. This notice solicits comments for information needed to determine a claimant's eligibility for work-study benefits.

DATES: Written comments and recommendations on the proposed collection of information should be received on or before January 3, 2012.

ADDRESSES: Submit written comments on the collection of information through the Federal Docket Management System (FDMS) at http://www.Regulations.gov or to Nancy J. Kessinger, Veterans Benefits Administration (20M35), Department of Veterans Affairs, 810 Vermont Avenue NW., Washington, DC 20420 or email to nancy.kessinger@va.gov. Please refer to “OMB Control No. 2900-0209” in any correspondence. During the comment period, comments may be viewed online through FDMS.

FOR FURTHER INFORMATION CONTACT: Nancy J. Kessinger at (202) 461-9769 or fax (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Application for Work-Study Allowance, VA Form 22-8691.

b. Student Work-Study Agreement (Advance Payment), VA Form 22-8692.

c. Extended Student Work-Study Agreement, VA Form 22-8692a.

d. Work-Study Agreement, VA Form 22-8692b.

OMB Control Number: 2900-0209.

Type of Review: Extension of a currently approved collection.

Abstracts:

a. VA Form 22-8691 is used by claimants to apply for work-study benefits.

b. VA Form 22-8692 is used to request an advance payment of work-study allowance.

c. VA Form 22-8692a is used by a claimant to extend his or her work-study contract.

d. VA Form 22-8692b is used by claimants who do not want a work-study advanced allowance payment.

The data collected is used to determine an applicant's eligibility for work-study allowance and the amount payable.

Affected Public: Individuals or households.

Estimated Annual Burden:

a. VA Form 22-8691—4,350 hours.

b. VA Form 22-8692—608 hours.

c. VA Form 22-8692a—25 hours.

d. VA Form 22-8692b—608 hours.

Estimated Average Burden Per Respondent:

a. VA Form 22-8691—15 minutes.

b. VA Form 22-8692—5 minutes.

c. VA Form 22-8692a—3 minutes.

d. VA Form 22-8692b—5 minutes.

Frequency of Response: Annually.

Estimated Number of Respondents:

a. VA Form 22-8691—17,400.

b. VA Form 22-8692—7,300.

c. VA Form 22-8692a—500.

d. VA Form 22-8692b—7,300.

Dated: October 26, 2011.
By direction of the Secretary.
Denise McLamb,
Program Analyst, Enterprise Records Service.

[FR Doc. 2011-28150 Filed 10-31-11; 8:45 am]

BILLING CODE 8320-01-P